SECURITIES AND EXCHANGE COMMISSION

[SEC File No. 270-625, OMB Control No. 3235-0686]

Submission for OMB Review; Comment Request

Upon Written Request Copies Available From: Securities and Exchange Commission, Office of FOIA Services, 100 F Street NE, Washington, DC 20549-2736

Extension:

Form WB-APP—Implementing the Whistleblower Provisions of Section 21F of the Securities Exchange Act of 1934

Notice is hereby given that, pursuant to the Paperwork Reduction Act of 1995 (44 U.S.C. 3501 et seq.) (“PRA”), the Securities and Exchange Commission (“Commission”) is soliciting comments on the collection of information summarized below. The Commission plans to submit an extension for this current collection of information to the Office of Management and Budget for approval.

In Release No. 34-64545,¹ the Commission adopted rules (“Rules”) and forms to implement Section 21F of the Securities Exchange Act of 1934 entitled “Securities Whistleblower Incentives and Protection,” which was created by section 922 of the Dodd-Frank Wall Street Reform and Consumer Protection Act (“Dodd-Frank Act”).² The Rules describe the whistleblower program that the Commission has established pursuant to the Dodd-Frank Act which requires the Commission to pay an award, subject to certain limitations and conditions, to whistleblowers who voluntarily provide the Commission with original information about a violation of the federal securities laws that leads to the successful enforcement of a covered judicial or administrative action, or of a related action. The Rules define certain terms critical to the operation of the whistleblower program, outline the procedures for applying for awards and the Commission's procedures for making decisions on claims, and generally explain the scope of the whistleblower program to the public and to potential whistleblowers.

¹ Implementation of the Whistleblower Provisions of Section 21F of the Securities Exchange Act of 1934, Release No. 34-64545; File No. S7-33-10 (adopted May 25, 2011).

² Public Law 111-203, 922(a), 124 Stat. 1841 (2010).

Form WB-APP is a form that is submitted by whistleblowers filing a claim for a whistleblower award. Form WB-APP is required for application for an award under the Rules. On March 7, 2024, the Commission approved an updated version of the WB-APP in conjunction with its amended rules. Based on Commission experience the updated WB-APP clarifies instructions to make it more user-friendly. Additionally, the new form has added one question asking if the submitter has filed for a whistleblower award from a non-SEC authority and if so, to provide the name of that authority. No substantive changes were made to the WB-APP.

The Commission estimates that it takes a whistleblower, on average, two hours to complete Form WB-APP. The completion time depends largely on the complexity of the alleged violation and the amount of information the whistleblower possesses in support of his or her application for an award. Based on the receipt of an average of approximately 192 ³ annual Form WB- APP submissions for the past three fiscal years, the Commission estimates that the annual reporting burden of Form WB-APP is 378 hours.

³ This figure does not include Form WB-APP submissions which were facially deficient, subsequently withdrawn, or submitted by individuals who have been barred by the Commission from participation in the whistleblower program.

The public may view background documentation for this information collection at the following website: www.reginfo.gov. Find this particular information collection by selecting “Currently under 30-day Review—Open for Public Comments” or by using the search function. Written comments and recommendations for the proposed information collection should be sent within 30 days of publication of this notice by June 20, 2024 to (i) MBX.OMB.OIRA.SEC_desk_officer@omb.eop.gov and (ii) David Bottom, Director/Chief Information Officer, Securities and Exchange Commission, c/o John Pezzullo, 100 F Street NE, Washington, DC 20549, or by sending an email to: PRA_Mailbox@sec.gov.

Dated: May 15, 2024.
Sherry R. Haywood,
Assistant Secretary.

[FR Doc. 2024-10977 Filed 5-17-24; 8:45 am]

BILLING CODE 8011-01-P